DEPARTMENT OF HEALTH AND HUMAN SERVICES

Substance Abuse and Mental Health Services Administration

Funding Opportunity Title: Youth Transition Into the Workplace Grants (Short Title: YIW Grants)

Announcement Type: Initial.

Funding Opportunity Number: SP 04-006.

Catalog of Federal Domestic Assistance (CFDA) Number: 93.243.

Due Date for Applications: May 27, 2004.

[Note: Letters from State Single Point of Contact (SPOC) in response to E.O. 12372 are due July 26, 2004.]

SUMMARY: The Substance Abuse and Mental Health Services Administration (SAMHSA), Center for Substance Abuse Prevention (CSAP), announces the availability of FY 2004 funds for Youth Transition Into the Workplace Grants (YIW). A synopsis of this funding opportunity, as well as many other Federal Government funding opportunities, is also available at the Internet site: www.grants.gov.

For complete instructions, potential applicants must obtain a copy of SAMHSA's standard Service-to-Science Grants Program Announcement [STS-04 PA (MOD)], and the PHS 5161-1 (Rev. 7/00) application form before preparing and submitting an application. The STS-04 PA (MOD) describes the general program design and provides instructions for applying for all SAMHSA Service-to-Science Grants, including the Youth Transition Into the Workplace Grants. Additional instructions and specific requirements for this funding opportunity are described below.

I. Funding Opportunity Description

Authority: Section 501(d)(5) of the Public Health Service Act, as amended and subject to the availability of funds.

Youth Transition Into the Workplace Grants (YIW Grants) is one of SAMHSA's Service-to-Science Grants. SAMHSA's Service-to-Science Grants provide funds to document and evaluate innovative practices that address critical substance abuse and mental health service gaps, but have not yet been formally evaluated. These grants will help organizations that have identified promising new practices to evaluate and package those innovations for review and inclusion in the National Registry of Effective Programs (NREP), as well as for future research. (Information on NREP is at: http://modelprograms.samhsa.gov)

The purpose of the YIW Grants is to broaden CSAP's prior workplace prevention initiatives related to prevention and early intervention, as well as related co-morbidity issues for employees and their families. Examples of well-researched interventions are: NREP workplace programs, Employee Assistance Programs (EAPs); drug-free workplace programs; peer to peer; health and wellness programs; health risk assessments and health care prevention initiatives. Grantees will be expected to document, implement, and evaluate workplace prevention/early intervention programs tailored for young adult employees ages 16-24. Specific attention should be paid to gender, ethnic, cultural, linguistic, and occupational variations.

The YIW Grant Program will be implemented in two phases. Applicants must apply for the combined Phase I & II grant, as described in the STS-04 PA (MOD). Applications for Phase I or Phase II alone will not be accepted. Phase I and II grants will be made as “cooperative agreements.” As such, grantees will be expected to work with a national steering committee to share early findings, apply agreed-upon methodologies and analysis techniques, and write cross-cutting documents and articles. They will also be expected to participate in an OMB approved, confidential, cross-site survey of employees administered by the cross-site contract evaluator. Phase I will take place in years 1-2. During Phase I, applicants will develop or enhance and document an existing intervention and collect baseline survey and administrative data.

During Phase II (years 3-5), the intervention/program will be implemented and fully evaluated. Phase II will include follow-up survey and administrative data collection supporting a cross-site evaluation of all Phase II grantees. Grantees completing the 5-year process will have sufficient documentation to apply for NREP status.

It is important to note that SAMHSA/CSAP does not expect that all Phase I grantees will necessarily move on to Phase II. Grantees must document, to the satisfaction of the Government Project Officer, that they have achieved the Phase I Performance Expectations articulated in the STS-04 PA (MOD); that they can provide the required performance data; and that the practice to be evaluated shows sufficient promise to warrant continued funding before the Phase II award will be approved. Continuation criteria by which Phase I grantees will be approved for Phase II funding is as follows: Baseline survey response rate; baseline survey sample size (number of completed surveys); baseline prevalence of targeted behaviors (e.g., risky drinking, heavy drinking, illicit drug use) among youth/young adult employees; number of employees enrolled during Phase I (e.g., total number enrolled); employees ages 16-24 retention rate; planned intervention design; and demonstrated access to the necessary administrative (company) data; and documentation of worksite management and other stakeholder interest in and support of project (e.g., support letters).

Background: Workplaces are one of a few important transition points for youth in our society, from school to work, and from youth to young adult. Research on youthful workers indicates a positive relationship between the number of hours worked to social and health problems including: Absences from school, negative family relationships, delinquency, and alcohol and drug use. Youth working part time (more than 20 hours per week) are at greatest risk for use of alcohol and illegal drugs. National Household Survey data disclose that almost 73% of all current drug users ages 18-49 are employed full or part-time, which is more than 8.3 million workers. The highest rate of illicit drug abuse and heavy alcohol use is among 18-25 year olds.

The CSAP workplace prevention research initiative identified a variety of successful workplace prevention, early identification, and early intervention activities for entire workforces. (For complete listings see: http://workplace.samhsa.gov). Yet little is known about how well these programs work for younger employees (ages 16-24) and how to tailor them for this population. Given the high risk for substance abuse of this age group; the growing number of this age group being recruited in a wide range of workplace environments; and the lack of sufficient knowledge concerning prevention and early interventions for this age group within a workplace setting, the workplace is seen as an excellent location for a services-to-science program.

II. Award Information

1. Estimated Funding Available/Number of Awards: It is expected that $2.0 million will be available to fund approximately 13 Phase I awards only in FY 2004. Phase I awards will be up to $150,000 in total costs (direct and indirect) per year for up to 2 years. Phase II awards (which are expected to begin in FY 2006) will be for up to $500,000 in total costs (direct and indirect) per year for up to 3 years. Awards for combined Phase I and II grants may not exceed 5 years. Proposed budgets cannot exceed $150,000 in any year for Phase I or $500,000 in any year for Phase II. The actual amount available for the awards may vary, depending on unanticipated program requirements and the number and quality of the applications received.

Phase I awards will be made for project periods of up to 2 years, and Phase II awards will be made for project periods of up to 3 years. The project periods for Phase I and Phase II awards combined may not exceed 5 years. Annual continuations will depend on the availability of funds; grantee progress in meeting program goals and objectives; the ability of the grantee to collect GPRA and other core data; and timely submission of required data and reports.

2. Funding Instrument: Cooperative Agreement.

Role of Grantee: Each grantee will retain responsibility for data collection, data analysis and interpretation, quality control, and preparation of reports and publications specific to each site. The YIW Contractor will conduct the cross-site survey. However, grantees will be responsible for all work related to survey access, consent procedures, response rates, and marketing the survey. Grantees must be willing to collaborate with the SAMHSA CSAP staff and participate in the cross-site activities. As SAMHSA CSAP, the YIW Contractor, the Steering Committee, and grantees will identify new and useful methodologies or standardized measures, grantees should be willing to consider adaptation of this information as appropriate.

Cross-site activities will include, but are not limited to: Participation in Steering Committee meetings; agreement on the study analysis across projects; adoption of cross-site measures and instruments; submission of data (which will be kept confidential within the specifications of the grantee) to the YIW Contractor throughout the study (on an agreed upon schedule) for cross-site analysis and reports; support of the cross-site Contractor's collection of survey data (which includes GPRA data); and participation in meetings and publications to disseminate the findings of the individual project and the overall program.

Participants must be willing to share data (confidentiality of the data source will be assured by SAMHSA CSAP), and comply with publication and authorship policies to be developed by the Steering Committee for this program. Specific activities for future replication of these projects in Phase II will include the development of a replication training manual.

Role of Contractor: The YIW Contractor, under direction of the SAMHSA CSAP project officer, will be responsible for the collection, analysis, and dissemination of cross-site and employee survey data. The YIW Contractor shall host the grantee employee survey (including GPRA data) and assure confidentiality of that data. The YIW Contractor will be responsible for participating as a member of the Steering Committee; serving as a repository for and analyzing the cross-site analysis data; and for providing technical assistance to grantees, as appropriate.

Role of Federal Staff: SAMHSA CSAP staff will be active participants in all aspects of the cooperative agreements and will serve as collaborators with the grantee project directors and Contractor. SAMHSA CSAP staff will provide substantial input, in collaboration with the grantees and the Contractor, both in the planning and conduct of this program.

SAMHSA CSAP staff involvement may include provision of technical assistance; participation in the redesign/modification of grantee or cross-site study design; consultation assuring reproducibility of results and the development of the replication training manuals; arrangement of meetings supporting cooperative agreement activities; membership on the Steering Committee and other working groups established to meet program goals; and authorship/co-authorship of publications to disseminate findings. SAMHSA CSAP staff will be subject to the publication/authorship policies to be developed by the Steering Committee.

SAMHSA CSAP will be responsible for arranging and convening Steering Committee meetings with assistance from the Contractor; for meeting costs not covered by the grantee's and Contractor's budgets (i.e., other than individual travel expenses); and for inviting expert consultants, selected by the grantees, to serve and assist on the Steering Committee and facilitating their participation.

SAMHSA CSAP will be providing grantees with information and findings it has obtained and analyzed over the course of the contract. This may include descriptions of operating models of workplace prevention programs for youthful populations ages 16-24 incorporating substance use/abuse prevention, early intervention, and treatment activities and strategies; health, wellness, and safety strategies; measurement instruments and tools; and findings from national, State, and local surveys and research.

Role of Steering Committee: The Steering Committee members will consist of the project director and evaluator from each project, project director and staff of the YIW contract, ex-officios, and SAMHSA CSAP staff. SAMHSA CSAP will appoint the Chair of the Steering Committee from the pool of grantee members in accordance with the majority vote of members, one vote per grantee, one vote by SAMHSA CSAP. SAMHSA CSAP will appoint ex-officios from other Federal and/or State agencies having exceptional knowledge and experience concerning this issue. SAMHSA CSAP staff will participate in, but not chair, the Committee. No entity will have veto power. SAMHSA CSAP staff will participate as a full member of any subcommittee that is established.

The Steering Committee will have the primary responsibility for agreeing to the cross-site evaluation design, the dissemination of findings and products. The Steering Committee will, consistent with the provisions of 45 CFR 74.36, develop policies on access to data and materials and publications in accordance with the requirements of SAMHSA. Publications will be written and authorship decided using procedures developed by the Steering Committee. The quality of publications resulting from the study will be the responsibility of the authors; no SAMHSA clearances will be required. (Note: Publications on which SAMHSA CSAP staff are included as authors or coauthors will receive internal agency clearance.)

The Steering Committee will develop its own procedures and is expected to develop consensus agreement on most decisions. All decisions that cannot be made by consensus will be made by majority vote.

The first meeting of the Steering Committee will be convened at the request of the SAMHSA CSAP staff. It is estimated that up to two meetings (not to exceed two meetings) will be needed in years 1 and 2 to develop the final cross-site analysis study design. The first meeting will be for 3 days and other meetings should last between 1-2 days per meeting. In years 3-5, Phase II, 1 day meetings will be held 2-3 times per year. One meeting per year will be a Steering Committee Meeting along with a Knowledge Exchange Meeting to share early findings and outcomes with the field. The majority of Steering Committee meetings will be held in the Washington, DC area.

All participants will agree to abide by the decisions and recommendations made by the Steering Committee and any required SAMHSA approvals set forth in the terms and conditions of this cooperative agreement.

III. Eligibility Information

1. Eligible Applicants are domestic public and private for-profit and nonprofit entities, including State, local or tribal governments; public or private universities and colleges; community- and faith-based organizations; and tribal organizations. Eligibility of for-profit entities for this funding announcement is an exception to the eligibility requirements stated in the STS 04-PA (MOD).

2. Cost Sharing or Matching is not required.

3. Other: Applicants must also meet certain application formatting and submission requirements or the application will be screened out and will not be reviewed. These requirements are described in Section IV-2 below as well as in the STS 04-PA (MOD).

IV. Application and Submission Information

1. Address to Request Application Package: Complete application kits may be obtained from: the National Clearinghouse for Alcohol and Drug Information (NCADI) at 1-800-729-6686. When requesting an application kit for this program, the applicant must specify the funding opportunity title YIW and the funding opportunity number (SP 04-006). All information necessary to apply, including where to submit applications and application deadline instructions, is included in the application kit. The PHS 5161-1 application form is also available electronically via SAMHSA's World Wide Web Home Page: http://www.samhsa.gov (Click on “Grant Opportunities”) and the STS-04 PA (MOD) is available electronically at http://www.samhsa.gov/grants/2004/standard/Srv2Sci/index.asp. When submitting an application, be sure to type [SP 04-006/YIW] in Item Number 10 on the face page of the application form. Also, SAMHSA applicants are required to provide a DUNS Number on the face page of the application. To obtain a DUNS Number, access the Dun and Bradstreet Web site at www.dunandbradstreet.com or call 1-866-705-5711.

2. Content and Form of Application Submission: Information including required documents, required application components, and application formatting requirements is available in the STS-04 PA (MOD) in Section IV-2.

Because grantees in the YIW program may use funds to provide direct substance abuse services, applicants are required to complete the Assurance of Compliance with SAMHSA Charitable Choice Statutes and Regulations, Form SMA 170. This form will be posted on SAMHSA's web site with the NOFA and provided in the application kits available at NCADI.

Checklist for Application Formatting Requirements

SAMHSA's goal is to review all applications submitted for grant funding. However, this goal must be balanced against SAMHSA's obligation to ensure equitable treatment of applications. For this reason, SAMHSA has established certain formatting requirements for its applications. If you do not adhere to these requirements, your application will be screened out and returned to you without review.

—Use the PHS 5161-1 application.

—Applications must be received by the application deadline. Applications received after this date must have a proof of mailing date from the carrier dated at least 1 week prior to the due date. Private metered postmarks are not acceptable as proof of timely mailing. Applications not received by the application deadline or not postmarked at least 1 week prior to the application deadline will not be reviewed.

—Information provided must be sufficient for review.

—Text must be legible.

• Type size in the Project Narrative cannot exceed an average of 15 characters per inch, as measured on the physical page. (Type size in charts, tables, graphs, and footnotes will not be considered in determining compliance.)

• Text in the Project Narrative cannot exceed 6 lines per vertical inch.

—Paper must be white paper and 8.5 inches by 11.0 inches in size.

—To ensure equity among applications, the amount of space allowed for the Project Narrative cannot be exceeded.

• Applications would meet this requirement by using all margins (left, right, top, bottom) of at least one inch each, and adhering to the page limit for the Project Narrative stated in the STS-04 PA (MOD).

• Should an application not conform to these margin or page limits, SAMHSA will use the following method to determine compliance: The total area of the Project Narrative (excluding margins, but including charts, tables, graphs and footnotes) cannot exceed 58.5 square inches multiplied by the page limit. This number represents the full page less margins, multiplied by the total number of allowed pages.

• Space will be measured on the physical page. Space left blank within the Project Narrative (excluding margins) is considered part of the Project Narrative, in determining compliance.

—The page limit for Appendices stated in the STS-04 PA (MOD) cannot be exceeded. To facilitate review of your application, follow these additional guidelines. Failure to adhere to the following guidelines will not, in itself, result in your application being screened out and returned without review. However, the information provided in your application must be sufficient for review. Following these guidelines will help ensure your application is complete, and will help reviewers to consider your application.

—The 10 application components required for SAMHSA applications should be included. These are:

• Face Page (Standard Form 424, which is in PHS 5161-1)

• Abstract

• Table of Contents

• Budget Form (Standard Form 424A, which is in PHS 5161-1)

• Project Narrative and Supporting Documentation

• Appendices

• Assurances (Standard Form 424B, which is in PHS 5161-1)

• Certifications (a form in PHS 5161-1)

• Disclosure of Lobbying Activities (Standard Form LLL, which is in PHS 5161-1)

• Checklist (a form in PHS 5161-1)

—Applications should comply with the following requirements:

• Provisions relating to confidentiality, participant protection and the protection of human subjects, as indicated in the STS-04 PA (MOD).

• Budgetary limitations as indicated in Sections I, II, and IV-5 of the STS-04 PA (MOD).

• Documentation of nonprofit status as required in the PHS 5161-1.

—Pages should be typed single-spaced with one column per page.

—Pages should not have printing on both sides.

—Please use black ink, and number pages consecutively from beginning to end so that information can be located easily during review of the application. The cover page should be page 1, the abstract page should be page 2, and the table of contents page should be page 3. Appendices should be labeled and separated from the Project Narrative and budget section, and the pages should be numbered to continue the sequence.

—Send the original application and two copies to the mailing address in the funding announcement. Please do not use staples, paper clips, and fasteners. Nothing should be attached, stapled, folded, or pasted. Do not use heavy or lightweight paper, or any material that cannot be copied using automatic copying machines. Odd-sized and oversized attachments such as posters will not be copied or sent to reviewers. Do not include videotapes, audiotapes, or CD-ROMs.

3. Submission Dates and Times: Applications must be received by May 27, 2004. You will be notified by postal mail that your application has been received. Additional submission information is available in the STS-04 PA (MOD) in Section IV-3.

4. Intergovernmental Review: Applicants for this funding opportunity must comply with Executive Order 12372 (E.O.12372). E.O.12372, as implemented through Department of Health and Human Services (DHHS) regulation at 45 CFR part 100, sets up a system for State and local review of applications for Federal financial assistance. Instructions for complying with E.O. 12372 are provided in the STS-04 PA (MOD) in Section IV-4. A current listing of State Single Points of Contact (SPOCs) is included in the application kit and is available at www.whitehouse.gov/omb/grants/spoc.html.

5. Funding Restrictions: Information concerning funding restrictions is available in the STS-04 PA (MOD) in Section IV-5.

V. Application Review Information

Evaluation Criteria: Applications will be reviewed against the Evaluation Criteria and requirements for the Project Narrative specified in the STS-04 PA (MOD). The following information describes exceptions or limitations to the STS-04 PA (MOD) and provides special requirements that pertain only to YIW grants.

1.1 Terms: Applicants can be profit or nonprofit entities. Workplaces must be either the applicant or a collaborating partner.

1.2 Review Criteria/Project Narrative: Applicants for YIW grants are required to address the following requirements in the Project Narrative of their applications, in addition to the requirements specified in the STS-04 PA (MOD):

a. In “Section A: Statement of Need,” applicants must identify the proposed target population as employees ages 16-24, and specifically address their gender, ethnic, cultural, linguistic, and occupational variations.

b. In “Section B: Proposed Approach,” applicants must describe how interventions will be redesigned and adapted for the target population, and how they will be implemented successfully in or through the workplace.

c. In “Section C: Evaluation Design and Analysis,” applicants must describe how they will work with SAMHSA, the YIW cross-site evaluator, and other grantees to adopt a common self-report survey to measure use/abuse and change of perception of harm, as well as other behavioral and attitudinal measures related to substance abuse prevention and early intervention programs. Baseline data will be collected during Phase I, with follow-up data collection occurring during the Phase II grant.

d. In “Section C: Evaluation Design and Analysis,” applicants must discuss how they will collect baseline, process, and outcome data (e.g., sociodemographic employee; worksite/workplace culture; workers compensation; injuries; union/management support levels; and healthcare use and costs) and retrospective data where available.

1.3 Performance Measurement: All SAMHSA grantees are required to collect and report certain data, so that SAMHSA can meet its obligations under the Government Performance and Results Act (GPRA). Grantees of the YIW program will be required to report performance in several areas. Applicants must document their ability to collect and report the required data in “Section C: Evaluation Design and Analysis” of their applications.

Phase I—Phase I of the YIW initiative will include grantees that will be at different stages of readiness in their intervention and prevention efforts. As such, Phase I measures focus on process. Grantees must be prepared to collect and report (as directed by CSAP) the following data in Phase I of the YIW initiative:

a. The number of employees exposed to the intervention. Grantees will be expected to support claims of employee enrollment/exposure through documentation such as employee sign-up sheets, receipts for materials dispersed, or surveys of participants.

b. The percentage of employees in the worksite population that are ages 16-24. Grantees must have the ability to provide records-based administrative data that sufficiently describe their worksite population. These descriptive data include employee age, sex, race/ethnicity, tenure with company, union status, termination status, and health plan enrollment. Although the data available is likely to vary across grantees, they will also be expected to provide other information such as absenteeism, earnings, job type/occupation, and workplace injuries.

c. Total number of labor hours spent delivering the intervention. Grantees will be required to provide supporting documentation through process logs or other time reporting mechanisms that adequately document the total labor hours required to do the intervention.

In addition to the above data, any Phase I grantee providing direct services to individuals is required to collect data from service recipients as described under #3 below.

Phase II—Phase II of the YIW initiative will include a smaller number of select grantees that will conduct and evaluate prevention/intervention activities during Phase II. Measures in this second phase include process, outcome, and cost measures. Grantees in Phase II must be prepared to collect and report the following data:

a. The number of employees exposed to the intervention by age group and demographic characteristics. Grantees will be expected to support claims of employee enrollment/exposure through documentation such as employee sign-up sheets, receipts for materials dispersed, or surveys of participants. In addition, the associated demographic variables will be obtained from records-based administrative data.

b. Total delivery costs of the intervention. These costs are to include the following:

(1) total labor hours used by all personnel that are involved in the intervention (paid labor and volunteers);

(2) total square feet of space used in delivering the intervention (paid space and space used free of charge);

(3) total number of supplies and materials such as brochures, handouts, office supplies, computer software, etc. used in the intervention (paid supplies and donated/free supplies);

(4) wages of paid labor (including fringe benefits such as paid time off, health insurance, disability benefits, pension, etc. and reproduction cost) and the fair market value of volunteer time;

(5) cost of space used for the intervention (either the rent paid or the estimated fair market value of the property given its location and total area);

(6) additional costs related to space use that includes building maintenance and utilities;

(7) unit cost of all supplies and materials;

(8) depreciation costs of capital resources used in the intervention such as furniture, equipment, security system, and computers; and

(9) administrative overheads (either a flat figure or a percentage of direct labor costs or total expenditure).

Grantees will be required to provide supporting documentation through process logs or other time reporting mechanisms that adequately document the total labor hours required to do the intervention. In addition, grantees must use other costing tools (e.g., DATCAP) to accurately capture all relevant intervention-related costs. The YIW cross-site evaluation contractor, along with CSAP, will provide a template along with technical assistance for capturing this information.

An electronic version of this form, along with instructions for completing the form, are available on the SAMHSA web site, along with this NOFA. Hard copies of the form and instructions for completing the form will be provided in the application kits distributed by SAMHSA's National Clearinghouse for Alcohol and Drug Information.

c. Outcome Data. Once service delivery begins, outcome data must be collected for those ages 16 and older using CSAP's GPRA data tool for adults. In addition, if applicants are targeting any of the five domains of prevention-related human behaviors and attitudes [Alcohol, Tobacco, and Other Drug Use (ATOD); Individual/Peer; Family; School; or Community], they must use CSAP Core Measures for adults. All applications must (1) identify which core measures the applicant proposes to collect for their program and (2) describe their ability to collect and report data on these measures. The awardee and the CSAP project officer will jointly finalize the selection of core measures based on the nature of the program model selected and the domain within which the program will be implemented. This will be accomplished following the notice of award. CSAP is currently finalizing additional core measures specific to ages 16-25. These will be communicated to grantees as soon as they are approved and cleared through OMB.

The following documents should be consulted when planning for data collection and reporting:

Document | Purpose | Where it can be found
CSAP GPRA Data Collection Tool | Required data for programs providing direct services to individuals age 12 and over. Youth and adult versions in English and Spanish available | Posted with this NOFA on SAMHSA's Web site at www.samhsa.gov/grants or included in the application kit distributed by SAMHSA's clearinghouse.
Core Measures Guidance | Describes how to use CSAP Core Measures as a menu and as appropriate to your target population | Posted with this NOFA on SAMHSA's Web site at www.samhsa.gov/grants or included in the application kit distributed by SAMHSA's clearinghouse.
CSAP Core Measures Notebook | Full description of CSAP Core Measures (200+pages) | Posted with this NOFA on SAMHSA's Web site at www.samhsa.gov/grants or included in the application kit distributed by SAMHSA's clearinghouse. If unable to access this document, contact Beverlie Fallik at(301) 443-5827 or bfallik@samhsa.gov; or Sue Fialkoff at (301) 443-1248 or sfialkof@samhsa.gov.
CSAP Data Submission Procedures | Describes how to submit data to CSAP | Posted with this NOFA on SAMHSA's Web site at www.samhsa.gov/grants or included in the application kit distributed by SAMHSA's clearinghouse.

2. Review and Selection Process: Information about the review and selection process is available in the STS-04 PA (MOD) in Section V-2.

VI. Award Administration Information

Award administration information, including award notices, administrative and national policy requirements, and reporting requirements are available in the STS-04 PA (MOD) in Section VI. SAMHSA's standard terms and conditions are available at http://www.samhsa.gov/grants/2004/useful_info.asp.

VII. Agency Contact for Additional Information

For questions concerning program issues, contact:Deborah M. Galvin, Ph.D., SAMHSA/CSAP/DWP, 5600 Fishers Lane, Rockwall II, Suite 815,Rockville, MD 20857,301-443-6816,E-mail: dgalvin@samhsa.gov.

For questions on grants management issues, contact:Edna Frazier, SAMHSA/Division of Grants Management, 5600 Fishers Lane, Rockwall II, Suite 630,Rockville, MD 20857,301-443-6816,E-mail: efrazier@samhsa.gov.

Dated: March 17, 2004.
Margaret M. Gilliam,
Acting Director, Office of Policy Planning and Budget, Substance Abuse and Mental Health Services Administration.

[FR Doc. 04-6377 Filed 3-22-04; 8:45 am]

BILLING CODE 4162-20-P